FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Worldtrans Services, Inc., 8925 Carroll Way, Suite C, San Diego, CA 92121. Officers: Tony Carnevale, Vice President, (Qualifying Individual), Charles H. Saathoff, President.

Ocean Lilly Express, LLC, 8501 NW. 17th Street, Suite 101, Miami, FL 33126. Officers: Alan Egan, President, (Qualifying Individual), Nelson Cabrera, Vice President.

CTC Logistics (L.A.) Inc., 9111 S. La Cienega Blvd., Suite 205, Inglewood, CA 90301. Officers: Ms. Xiaomei Lu, Chief Operations Officer, (Qualifying Individual), Yonglong Li, President.

Caribbean Cargo & Package Services Inc., Building #80 JFK International Airport, Jamaica, NY 11430. Officers: Franklin Clifford Vieira, President, (Qualifying Individual), Harold Smith, Director.

Admiral Marine, Inc., 33 Wood Avenue South, Iselin, NJ 08830. Officers: Fred Grootarz, President, (Qualifying Individual), Henry Kisiel, Vice President.

Ace Express (New York) Inc., 147-39 175 Street, Suite 101, Jamaica, NY 11434-5463. Officer: Ivan P. Hong, President, (Qualifying Individual).

Non-Vessel Operating Common Carrier and Ocean Freight Forwarder Transportation Intermediary Applicants

Wen-Parker, Inc., 230-19 International Airport Center Blvd., Suite 238, Jamaica, NY 11413. Officer: Weiming New, President, (Qualifying Individual).

Motherlines Inc., 1419 Oak Tree Road, Iselin, NJ 08830. Officers: N. Santhosh Kumar, Vice President, (Qualifying Individual), A.B. Sankarankutty, Director.

Kartash, Inc., 11 Sunrise Plaza, Suite 200, Valley Stream, NY 11580. Officers: Raisa Kartasheusky, President, (Qualifying Individual), Edward Kartasheusky, Vice President.

Ocean Freight Forwarder—Ocean Transportation Intermediary Applicant

Continental Resource Company, 2639 East Avenue, Hayward, CA 94541. Jack Chiang, Sole Proprietor.

Dated: August 8, 2003.
Karen V. Gregory,
Acting Assistant Secretary.

[FR Doc. 03-20657 Filed 8-12-03; 8:45 am]

BILLING CODE 6730-01-P